DEPARTMENT OF THE INTERIOR

Minerals Management Service

Notice of Availability of Draft Environmental Impact Statement

AGENCY: Minerals Management Service, Interior.

ACTION: Notice of Availability of the Draft Environmental Impact Statement (EIS) for the Proposed Outer Continental Shelf (OCS) Oil and Gas Leasing Program: 2007-2012.

DATES: Comments will be accepted until November 22, 2006.

ADDRESSES: If you wish to comment, you may submit your comments by any one of several methods. You may comment electronically using MMS's Public Connect online commenting system at http://ocsconnect.mms.gov. This is the preferred method for commenting. From the Public Connect “Welcome” screen, search for “5-Year Programmatic EIS 2007-2012” or select it from the “Projects Open for Comment” menu. You may also mail comments to: 5-Yr DEIS, Attention: Mr. James F. Bennett, Chief, Branch of Environmental Assessment, 381 Elden Street, Mail Stop 4042, Herndon, Virginia 20170-4817. Finally, you may hand-deliver comments to the Department of the Interior, Main Interior Building, 1849 C Street, NW., Room 4227, Washington, DC 20240. Envelopes or packages must be marked “2007-2012 Oil and Gas Program Draft Environmental Impact Statement”. Our practice is to make comments, including names and home addresses of respondents, available for public review. Individual respondents may request that we withhold their names and/or home addresses, but if you wish us to consider withholding this information you must state this prominently at the beginning of your comments. In addition, you must present a rationale for withholding this information. This rationale must demonstrate that disclosure “would constitute an unwarranted invasion of privacy.” Unsupported assertions will not meet this burden. In the absence of exceptional, documentable circumstances, this information will be released. We will not consider anonymous comments. We will always make submissions from organizations or businesses, and from individuals identifying themselves as representatives or officials of organizations or businesses, available for public inspection in their entirety.

FOR FURTHER INFORMATION CONTACT: Mr. James F. Bennett, Minerals Management Service, Chief, Branch of Environmental Assessment, at (703) 787-1660.

SUPPLEMENTARY INFORMATION: The Draft Environmental Impact Statement may be found on the Internet at http://www.mms.gov/5-year/. A limited number of individual copies of the Draft EIS may be obtained from the above contact. Please specify if you wish CD or paper copy. If neither is specified, a CD containing the Draft EIS will be forwarded.

In accordance with 30 CFR 256.2(b), public hearings related to the draft EIS will be held in the Gulf of Mexico, Atlantic and Alaska Regions. The exact dates, times, and locations of the hearings will be announced by Federal Register notice in the near future.

Library Availability: To learn which libraries in Alaska have copies of the draft EIS, contact the Alaska OCS Region, Minerals Management Service, 949 East 36th Avenue, Anchorage, Alaska 99508-4363, telephone 1-800-764-2627 or (907) 271-6438. On the Pacific coast contact the Pacific OCS Region, Minerals Management Service, 770 Paseo Camarillo, Camarillo, California 93010-6064, telephone (805) 389-7520. For availability of the draft EIS along the Gulf of Mexico and Atlantic coasts contact the Gulf of Mexico OCS Region, Minerals Management Service, 1201 Elmwood Park Boulevard, New Orleans, Louisiana 70123-2394, telephone (504) 736-2595. Information on the availability of the Draft EIS can also be obtained from the Minerals Management Service. Contact Mr. James F. Bennett.

The list of libraries and their locations is also available on the MMS Home page on the Internet at http://www.mms.gov/library/.

After the public hearing testimony and written comments on the Draft EIS have been reviewed and analyzed, a Final EIS will be prepared.

Dated: August 15, 2006.
Willie R. Taylor,
Director, Office of Environmental Policy and Compliance.

[FR Doc. E6-14073 Filed 8-24-06; 8:45 am]

BILLING CODE 4310-MR-P